DEPARTMENT OF LABOR

Employment and Training Administration

[TA-W-51,561]

Motorola, Broadband Communications Sector, Tewksbury, Massachusetts; Amended Certification Regarding Eligibility To Apply for Worker Adjustment Assistance

In accordance with Section 223 of the Trade Act of 1974 (19 U.S.C. 2273) the Department of Labor issued a Certification of Eligibility to Apply for Worker Adjustment Assistance on November 24, 1997, applicable to all workers of Motorola, Broadband Communications Sector, Tewksbury, Massachusetts. The notice was published in the Federal Register on May 19, 2003 (68 FR 27207).

At the request of the company, the Department reviewed the certification for workers of the subject firm. New findings show that the Department incorrectly issued certification coverage to all workers of the subject firm. The intent of the Department's certification is to cover only workers manufacturing carrier class edge router for cable television systems at Motorola, Broadband Communications Sector, Tewksbury, Massachusetts who were adversely affected by the shift in production to Mexico.

Accordingly, the Department is amending the certification determination to properly reflect this matter.

The amended notice applicable to TA-W-33,966 is hereby issued as follows:

Workers manufacturing carrier class edge router for cable television systems at Motorola, Broadband Communications Sector, Tewksbury, Massachusetts, who became totally or partially separated from employment on after April 18, 2002, through May 7, 2005, are eligible to apply for adjustment assistance under Section 223 of the Trade Act of 1974.

Signed at Washington, DC, this 21st day of May 2003.
Elliott S. Kushner,
Certifying Officer, Division of Trade Adjustment Assistance.

[FR Doc. 03-15869 Filed 6-23-03; 8:45 am]

BILLING CODE 4510-30-P